DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Region Amendment 80 Program.

OMB Control Number: 0648-0565.

Form Number(s): None.

Type of Request: Regular. (Revision and extension to a previously approved collection).

Number of Respondents: 25.

Average Hours per Response: 2 hours each for Application for Amendment 80 (A80) Quota Share (QS), Application for A80 Cooperative Quota (CQ) Permit, Application for A80 Limited Access Fishery Permit, Application to Transfer A80 QS, Application for A80 Vessel Replacement, and Application for Inter-cooperative Transfer of A80 CQ; 4 hours for A80 appeals letter; 5 minutes for Flatfish Exchange Application.

Burden Hours: 20 hours.

Needs and Uses: This is an extension and a revision of a currently approved information collection that contains applications for permits and transfers necessary to manage the Amendment 80 (A80) Program. The A80 Program is a limited access privilege program that allocates several Bering Sea and Aleutian Islands non-pollock trawl groundfish species among trawl fishery sectors and facilitates the formation of harvesting cooperatives in the non-American Fisheries Act trawl catcher/processor sector.

This collection contains applications used by persons to apply for A80 QS, to transfer A80 QS, and to apply for an A80 limited access fishery permit; by A80 cooperatives to apply for CQ and transfer CQ; by cooperatives or CDQ groups to exchange CQ for one eligible flatfish species with CQ of a different eligible flatfish species; and by A80 vessel owners to replace their vessels.

The National Marine Fisheries Service uses information from this collection to establish eligibility to receive A80 QS, CQ, and permits; transfer and assign harvest quota; replace vessels used in the A80 Program; determine A80 species initial total allowable catch assignments; determine which vessels must be tracked for catch accounting; and review ownership and control information to ensure that QS and CQ use caps are not exceeded.

Affected Public: Business or other for-profit organizations; Individuals or households.

Frequency: Annually; on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of Chief Information Officer, Department of Commerce.

[FR Doc. 2019-05440 Filed 3-21-19; 8:45 am]

BILLING CODE 3510-22-P